DEPARTMENT OF ENERGY

Federal Energy Regulatory Commission

Combined Notice of Filings #1

November 5, 2007.

Take notice that the Commission received the following electric corporate filings:

Docket Numbers: EC08-9-000.

Applicants: Warren Power, LLC.

Description: Application of Warren Power, LLC for authorization of disposition of jurisdictional assets.

Filed Date: 10/31/2007.

Accession Number: 20071102-0083.

Comment Date: 5 p.m. Eastern Time on Wednesday, November 21, 2007.

Take notice that the Commission received the following exempt wholesale generator filings:

Docket Numbers: EG08-10-000.

Applicants: Wheatfield Wind Power Project, LLC.

Description: Wheatfield Wind Power Project LLC submits a Notice of Self-Certification of EWG.

Filed Date: 11/01/2007.

Accession Number: 20071101-5147.

Comment Date: 5 p.m. Eastern Time on Friday, November 23, 2007.

Take notice that the Commission received the following electric rate filings:

Docket Numbers: ER97-420-016.

Applicants: ProLiance Energy, LLC.

Description: ProLiance Energy, LLC submits a change in status notification.

Filed Date: 10/31/2007.

Accession Number: 20071102-0074.

Comment Date: 5 p.m. Eastern Time on Wednesday, November 21, 2007.

Docket Numbers: ER96-1551-019; ER01-615-015; ER07-965-001.

Applicants: Public Service Company of New Mexico.

Description: Public Service Company of New Mexico and EnergyCo Marketing and Trading, LLC provides notification of changes in status, et al.

Filed Date: 10/26/2007.

Accession Number: 20071102-0112.

Comment Date: 5 p.m. Eastern Time on Friday, November 16, 2007.

Docket Numbers: ER98-855-009.

Applicants: Wisconsin Electric Power Company.

Description: Wisconsin Electric Power Company submits its Notice of Change in Status of FERC Electric Market Rate Tariff and on 10/29/07 submit clean and relined version with proper page numbering of its Tariff.

Filed Date: 10/26/2007; 10/29/2007.

Accession Number: 20071101-0062; 20071101-0063.

Comment Date: 5 p.m. Eastern Time on Friday, November 16, 2007.

Docket Numbers: ER98-1643-011.

Applicants: Portland General Electric Company.

Description: Portland General Electric Company submits its Notice of Change in Status re the construction of Biglow Canyon Wind Farm.

Filed Date: 10/31/2007.

Accession Number: 20071101-0075.

Comment Date: 5 p.m. Eastern Time on Wednesday, November 21, 2007.

Docket Numbers: ER03-428-006.

Applicants: ConocoPhillips Company.

Description: ConocoPhillips Co. notifies FERC of a non-material change in status in accordance with reporting requirements adopted in Order 652, etc.

Filed Date: 10/30/2007.

Accession Number: 20071102-0073.

Comment Date: 5 p.m. Eastern Time on Tuesday, November 20, 2007.

Docket Numbers: ER03-534-004.

Applicants: Ingenco Wholesale Power, LLC.

Description: Ingenco Wholesale Power, LLC submits a compliance filing of revisions to the proposed market-base rate tariff in accordance with Order 697.

Filed Date: 10/30/2007.

Accession Number: 20071102-0072.

Comment Date: 5 p.m. Eastern Time on Tuesday, November 20, 2007.

Docket Numbers: ER07-965-001.

Applicants: EnergyCo. Marketing and Trading, LLC; Public Service Company of New Mexico.

Description: Public Service Company of New Mexico and EnergyCo. Marketing and Trading, LLC provides notification of changes in status.

Filed Date: 10/26/2007.

Accession Number: 20071102-0112.

Comment Date: 5 p.m. Eastern Time on Friday, November 16, 2007.

Docket Numbers: ER07-1156-002.

Applicants: PacifiCorp.

Description: PacifiCorp. submits a refund report in accordance with Commission's 8/28/07 Letter Order.

Filed Date: 10/30/2007.

Accession Number: 20071101-0077.

Comment Date: 5 p.m. Eastern Time on Tuesday, November 20, 2007.

Docket Numbers: ER07-1215-002.

Applicants: The Royal Bank of Scottland plc.

Description: The Royal Bank of Scotland plc submits its market-based rate tariff in accordance with FERC's directions.

Filed Date: 10/22/2007.

Accession Number: 20071101-0079.

Comment Date: 5 p.m. Eastern Time on Tuesday, November 13, 2007.

Docket Numbers: ER07-1219-001.

Applicants: Southern Company Services, Inc.

Description: Southern Company Services Inc, acting agent for Alabama Power Company et al. submits its compliance filing to FERC's Order issued on 9/27/07.

Filed Date: 10/29/2007.

Accession Number: 20071101-0076.

Comment Date: 5 p.m. Eastern Time on Monday, November 19, 2007.

Docket Numbers: ER07-1226-001.

Applicants: Southwest Power Pool, Inc.

Description: Southwest Power Pool, Inc. submits a compliance filing providing for revisions to Attachments H and T of its Open Access Transmission Tariff.

Filed Date: 10/29/2007.

Accession Number: 20071101-0078.

Comment Date: 5 p.m. Eastern Time on Monday, November 19, 2007.

Docket Numbers: ER07-1263-003.

Applicants: High Sierra Power Marketing, LLC.

Description: High Sierra Power Marketing, LLC submits Substitute Original Sheet 1, et al. to FERC Electric Tariff, Original Volume 1, effective 9/19/07.

Filed Date: 10/31/2007.

Accession Number: 20071102-0076.

Comment Date: 5 p.m. Eastern Time on Wednesday, November 21, 2007.

Docket Numbers: ER07-1264-003.

Applicants: Sierra Power Asset Marketing, LLC.

Description: Sierra Power Asset Marketing submits Substitute Original Sheet 1 et al. to FERC Electric Tariff, Original Volume 1, effective 9/19/07.

Filed Date: 10/31/2007.

Accession Number: 20071102-0075.

Comment Date: 5 p.m. Eastern Time on Wednesday, November 21, 2007.

Docket Numbers: ER07-1389-001.

Applicants: Pypha Energy, LLC.

Description: Pypha Energy, LLC submits their market based rate authority and Substitute Original Sheet 1, 2, and 3 to FERC Electric Tariff, Original Volume 1.

Filed Date: 10/29/2007.

Accession Number: 20071101-0080.

Comment Date: 5 p.m. Eastern Time on Monday, November 19, 2007.

Docket Numbers: ER08-77-001.

Applicants: Golden Spread Electric Cooperative, Inc.

Description: Golden Spread Electric Cooperative Inc submits amendments to its First Revised Rate Schedule 23-33.

Filed Date: 10/26/2007.

Accession Number: 20071101-0081.

Comment Date: 5 p.m. Eastern Time on Friday, November 16, 2007.

Docket Numbers: ER08-95-000.

Applicants: PJM Interconnection, LLC.

Description: PJM Interconnection, LLC submits an executed interconnection service agreement and an executed construction service agreement with Rutgers University et al.

Filed Date: 10/29/2007.

Accession Number: 20071101-0109.

Comment Date: 5 p.m. Eastern Time on Monday, November 19, 2007.

Docket Numbers: ER08-98-000.

Applicants: The Connecticut Light and Power Company.

Description: Northeast Utilities Service Co., on behalf of the Connecticut Light & Power Co., submits a revised Interconnection & Operation Agreement with Milford Power Company, LLC designated as First Revised Agreement 101.

Filed Date: 10/30/2007.

Accession Number: 20071101-0084.

Comment Date: 5 p.m. Eastern Time on Tuesday, November 20, 2007.

Docket Numbers: ER08-99-000.

Applicants: MidAmerican Energy Company.

Description: MidAmerican Energy Company submits an Engineering and Procurement Agreement with Generation Supply Function of MidAmerican (Interconnection Customer) and the Transmission Function of MidAmerican.

Filed Date: 10/30/2007.

Accession Number: 20071101-0083.

Comment Date: 5 p.m. Eastern Time on Tuesday, November 20, 2007.

Docket Numbers: ER08-100-000.

Applicants: Sempra Energy Trading, LLC.

Description: Sempra Energy Trading, LLC submits a notice of succession that reflects the name change that became effective 9/30/07 and Fourth Revised Rate Schedule 1, et al.

Filed Date: 10/30/2007.

Accession Number: 20071101-0082.

Comment Date: 5 p.m. Eastern Time on Tuesday, November 20, 2007.

Docket Numbers: ER08-108-000.

Applicants: Southwest Power Pool, Inc.

Description: Southwest Power Pool, Inc. submits revisions to its Open Access Transmission Tariff to reflect updated of annual values used in calculation of offer caps for all pivotal resources.

Filed Date: 10/29/2007.

Accession Number: 20071101-0099.

Comment Date: 5 p.m. Eastern Time on Monday, November 19, 2007.

Docket Numbers: ER08-109-000.

Applicants: Midwest Independent Transmission System Operator, Inc.

Description: Midwest Independent Transmission System Operator, Inc. submits proposed revisions to its Open Access Transmission and Energy Markets Tariff on Transition to Auction Revenue Rights, etc.

Filed Date: 10/30/2007.

Accession Number: 20071101-0097.

Comment Date: 5 p.m. Eastern Time on Tuesday, November 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-22276 Filed 11-14-07; 8:45 am]

BILLING CODE 6717-01-P